EXECUTIVE OFFICE OF THE PRESIDENT

Request for Information to Make Access to the Innovation Ecosystem More Inclusive and Equitable

AGENCY: White House Office of Science and Technology Policy (OSTP).

ACTION: Notice of Request for Information (RFI).

SUMMARY: The White House Office of Science and Technology Policy (OSTP), on behalf of the National Science and Technology Council (NSTC) Lab-to-Market (L2M) Subcommittee, seeks information to improve inclusive and equitable access to Federal programs and resources by broadly engaging stakeholders in the U.S. innovation ecosystem. The public input provided in response to this RFI will inform OSTP and NSTC on work with Federal agencies and other stakeholders to improve existing programs and/or develop new programs to improve inclusive and equitable access in the Federally-funded research and development-driven sector.

DATES: Interested persons and organizations are invited to submit responses on or before 5:00 p.m. ET on July 5, 2022.

ADDRESSES: Responses should be submitted electronically to LabtoMarketRFI@ostp.eop.gov and include “L2M RFI Response” in the subject line of the email. Due to time constraints, mailed paper submissions will not be accepted, and electronic submissions received after the deadline cannot be ensured to be incorporated or taken into consideration.

Instructions: Response to this RFI is voluntary. Each responding entity (individual or organization) is requested to submit only one response. Respondents need not reply to all questions listed. Responses must not exceed 6 pages in 12 point or larger font, with a page number provided on each page. Responses should include the name of the person(s) or organization(s) filing the comment, as well as the respondent type (e.g., academic institution, advocacy group, professional society, community-based organization, industry, trainee/student, member of the public, government, other). Respondent's role in the organization may also be provided (e.g., researcher, faculty, student, administrator, program manager, journalist) on a voluntary basis. Comments containing references, studies, research, and other empirical data that are not widely published should include copies or electronic links of the referenced materials. Please be aware that comments submitted in response to this RFI, including the submitter's identification (as noted above), may be posted on OSTP's website or otherwise released publicly. OSTP, therefore, requests that no business proprietary information, copyrighted information, or personally identifiable information be submitted in response to this RFI.

In accordance with FAR 15.202(3), responses to this notice are not offers and cannot be accepted by the Federal Government to form a binding contract. Additionally, those submitting responses are solely responsible for all expenses associated with response preparation.

FOR FURTHER INFORMATION CONTACT: For additional information, please direct questions to Kylie Gaskins at LabtoMarketRFI@ostp.eop.gov or 202-456-4444.

SUPPLEMENTARY INFORMATION: Our nation's people are rich with diverse experiences. However, there is tremendous untapped science, technology, engineering, and mathematics (STEM) innovative potential throughout the nation. Demographic and socioeconomic groups in every geographic region of the country are full of talent that should have access to Federal programs and resources that afford them opportunities to contribute to the nation's innovation enterprise. There is ample evidence that our nation's potential in the arenas of innovation and entrepreneurship can be enhanced by engagement with the untapped talent of people who belong to groups that have historically been and are currently underrepresented.

Through this RFI, the L2M Subcommittee seeks input from the public to identify and better understand: (1) Barriers that prevent innovators from underrepresented groups or underserved communities from participating in the innovation ecosystem; (2) Recommendations of methods to include and meet the specific needs of innovators from underrepresented backgrounds and communities to increase their participation in the innovation ecosystem; and (3) Examples of government programs or initiatives which have seen success in supporting innovators from underrepresented backgrounds.

For this RFI, examples of Federal programs and resources to support the innovation ecosystem include STEM education programs, Small Business Innovation Research (SBIR) and Small Business Technology Transfer (STTR) program participation, entrepreneurial training for researchers (e.g., the Innovation Corps I-Corps™ program), collaboration with Federal laboratories, commercialization funding, and other phases of the research, development, demonstration, and deployment (RDD&D) continuum.

Background: The NSTC L2M Subcommittee was established to strengthen the nation's ability to transition Federally-funded innovations from the laboratory to the marketplace. One strategy to accomplish this aim is to enhance participation in the innovation ecosystem. Innovation ecosystem describes the complex community of participants and resources needed to develop and commercialize technology. This ecosystem includes the people (e.g., students, faculty, industry researchers, investors) that make up the institutional entities (e.g., universities, businesses, funding agencies, venture capital firms, state and local economic development organizations, entrepreneur support organizations), material resources (e.g., funding, equipment, facilities), and the relationships among these interconnected actors. Innovation ecosystems may operate at different geographic levels (e.g., city, regional, national) and within multiple sectors (e.g., health, energy, agriculture).

Entrepreneurs may lack knowledge about these resources and have difficulty navigating them, which poses significant barriers to participation. Ensuring that access to resources and capital are available to all Americans as well as ensuring the benefits of entrepreneurship are accessible across the nation are critical in creating a robust and dynamic workforce with inclusive growth.

Information Requested

OSTP seeks responses to the following questions to improve inclusive and equitable access for our nation's diverse pool of innovators and emerging entrepreneurs in Federal science and technology programs. Respondents may provide information for one or as many topics below as they choose. In your response, please indicate your role in the innovation ecosystem (e.g., entrepreneur, investor, ecosystem connector, researcher in academia, state economic development representative).

Executive Order 13985 defines underserved communities as populations sharing a particular characteristic that have been systematically denied a full opportunity to participate in aspects of economic, social, and civic life.

1. a. In your experience, what are barriers to participation in the innovation ecosystem?

b. Do barriers exist that are unique to innovators from specific underrepresented backgrounds or underserved communities? If so, what are those barriers?

c. How can the Federal government identify the specific barriers, problems, or issues faced by innovators and emerging entrepreneurs from underrepresented backgrounds or underserved communities as they seek to engage with Federal programs and services?

2. How can the Federal government increase participation in the innovation ecosystem by innovators from backgrounds and communities underrepresented in the current ecosystem? In your response, please provide your definition of “underrepresented” or “underserved”.

3. How can the Federal government meet the specific needs (e.g., training, support, other) of innovators and emerging entrepreneurs from backgrounds and communities underrepresented in the innovation ecosystem by either improving existing government programs or initiatives, or by offering new government programs or initiatives?

4. Are there examples of programs that have seen success in supporting innovators from underrepresented backgrounds and underserved communities in the innovation ecosystem? What are the critical success factors of these programs?

Dated: May 27, 2022.
Stacy Murphy,
Operations Manager.

[FR Doc. 2022-11844 Filed 6-2-22; 8:45 am]

BILLING CODE 3270-F1-P